FEDERAL COMMUNICATIONS COMMISSION

[DA 18-389]

Incentive Auction Task Force and Media Bureau Extend Post Incentive Auction Special Displacement Window Through June 1, 2018

AGENCY: Federal Communications Commission.

ACTION: Notice.

SUMMARY: The Federal Communications Commission's Incentive Auction Task Force and Media Bureau announce that the displacement application filing window for low power television, TV translator, and analog-to-digital replacement translator stations that were displaced by the incentive auction and repacking process (Special Displacement Window).

DATES: The Special Displacement Window opened April 10, 2018 and will close on June 1, 2018 at 11:59 p.m. EDT.

FOR FURTHER INFORMATION CONTACT: Shaun Maher, Video Division, Media Bureau, Federal Communications Commission, Shaun.Maher@fcc.gov, (202) 418-2324.

SUPPLEMENTARY INFORMATION: The Incentive Auction Task Force and the Media Bureau hereby announce that the displacement application filing window for low power television, TV translator, and analog-to-digital replacement translator stations that were displaced by the incentive auction and repacking process (Special Displacement Window), currently scheduled to close May 15, 2018, is hereby extended to June 1, 2018 at 11:59 p.m. EDT. This brief extension of the Special Displacement Window will allow applicants further time to analyze data and other information and to prepare or make changes to their applications accordingly.

For additional information or questions, please contact Hossein Hashemzadeh (technical), Hossein.Hashemzadeh@fcc.gov, (202) 418-1658 or Shaun Maher (legal), Shaun.Maher@fcc.gov, (202) 418-2324 of the Video Division, Media Bureau. Press contact: Charles Meisch, Charles.Meisch@fcc.gov, (202) 418-2943.

Barbara Kreisman,
Chief, Video Division, Media Bureau.

[FR Doc. 2018-09331 Filed 5-1-18; 8:45 am]

BILLING CODE 6712-01-P